ENVIRONMENTAL PROTECTION AGENCY

40 CFR Part 52

[HI 125-NBK; FRL-7946-7]

Revisions to the State of Hawaii State Implementation Plan, Update to Materials Incorporated by Reference

Correction

In rule document 05-15436 beginning on page 44852 in the issue of Thursday, August 4, 2005, make the following correction:

§52.620 [Amended]

On page 44855, in §52.620(c), in the table, in the second column “Title/subject,” in the ninth line, “equipment testing” should read “equipment reporting”.

[FR Doc. C5-15436 Filed 8-22-05; 8:45 am]

BILLING CODE 1505-01-D